DEPARTMENT OF COMMERCE

National Oceanic and Atmospheric Administration

RIN 0648-XD961

Pacific Island Fisheries; Special Coral Reef Ecosystem Fishing Permit for Offshore Aquaculture

AGENCY: National Marine Fisheries Service (NMFS), National Oceanic and Atmospheric Administration (NOAA), Commerce.

ACTION: Notice of availability of draft environmental assessment; request for comments.

SUMMARY: NMFS proposes to issue a Special Coral Reef Ecosystem Fishing Permit that would authorize Kampachi Farms, LLC, to stock, culture, and harvest fish that are part of the coral reef ecosystem management unit in a submerged net pen moored in Federal waters about 5.5 nm (10.2 km) off the west coast of the Island of Hawaii. This notice informs the public that NMFS prepared a draft environmental assessment (EA) of the potential impacts of the proposed activity.

DATES: NMFS must receive comments on the draft EA by February 16, 2016.

ADDRESSES: You may submit comments on the draft EA, identified by NOAA-NMFS-2015-0137, by either of the following methods:

• Electronic Submission: Submit all electronic public comments via the Federal e-Rulemaking Portal. Go to www.regulations.gov/#!docketDetail;D=NOAA-NMFS-2015-0137, click the “Comment Now!” icon, complete the required fields, and enter or attach your comments.

• Mail: Send written comments to Michael D. Tosatto, Regional Administrator, NMFS Pacific Islands Region (PIR), 1845 Wasp Blvd., Bldg. 176, Honolulu, HI 96818.

Instructions: NMFS may not consider comments sent by any other method, to any other address or individual, or received after the end of the comment period. All comments received are a part of the public record and will generally be posted for public viewing on www.regulations.gov without change. All personal identifying information (e.g., name, address, etc.), confidential business information, or otherwise sensitive information submitted voluntarily by the sender will be publicly accessible. NMFS will accept anonymous comments (enter “N/A” in the required fields if you wish to remain anonymous).

FOR FURTHER INFORMATION CONTACT: Melanie Brown, Sustainable Fisheries, NMFS PIR, 808-725-5171.

SUPPLEMENTARY INFORMATION: NMFS proposes to issue a Special Coral Reef Ecosystem Fishing Permit to Kampachi Farms, LLC (applicant), consistent with Federal regulations for Hawaii coral reef ecosystem fisheries management at Title 50, Code of Federal Regulations, Part 665.224, and the Fishery Ecosystem Plan for the Hawaiian Archipelago (FEP). NMFS would authorize the applicant to stock, culture, and harvest kampachi, a native coral reef ecosystem management unit fish (Seriola rivoliana, Almaco jack, marketed as Kona Kampachi®). NMFS would authorize the activity for 2 years.

The applicant would use a floating, submerged, cylindrical net pen with an area of 1,083 m ³ (38,246 ft ³) net pen, suspended from a 30-m (98-ft) diameter float ring. The applicant would tether the net pen, made of brass and synthetic meshes, to a 60-ft (18-m) feed vessel. The net pen, float ring, and feed vessel are collectively called the Velella Delta Array. The applicant would secure the array to a single-point mooring in Federal waters approximately 6,000 ft (1,830 m) deep, 5.5 nm (10.2 km) west of Keauhou Bay, Hawaii. The exact position of the Velella Delta Array would depend on wind and currents and would approach no closer than 3 nm (5.6 km) from shore.

The proposed activity requires a special permit because the FEP and Federal regulations do not identify the Velella Delta Array as an approved gear type to fish for coral reef ecosystem management unit species. If NMFS authorizes the activity, the applicant would use the Velella Delta Array to grow and harvest 30,000 kampachi from fingerlings in two 15,000-fish cohorts. The applicant would stock the net pen with first-generation offspring from wild fish.

NMFS anticipates that the low density of cultured fish, the procedures proposed to minimize feed waste, and the flushing by ocean currents, would minimally affect water quality. The net materials resist both biofouling and leaching. The net pen design includes a single mesh entry panel on the top that Kampachi Farms staff would use only after raising the pen to the surface. The project design and operating procedures would prevent fish escapes.

The applicant would equip the array's float ring and feed vessel with GPS navigation units to provide constant location information on the array, simplifying retrieval operations if the array were to break free from the mooring. In the unlikely case of the array separating from the mooring, the applicant would notify the U.S. Coast Guard and immediately recover any lost gear. In addition to requiring the applicant to monitor the array, NMFS would require the applicant to avoid interactions with protected species (i.e., marine mammals, seabirds, sea turtles, and reef corals), prevent fish escapes, dispose of dead fish on land, maintain harvest and transshipment reports, and, if needed, accommodate a scientific observer.

NMFS expects that the array would aggregate pelagic fish, and fishermen would be able to continue fishing near the array. The small size of the array would not adversely affect fish catches in the ocean west of the Island of Hawaii.

The applicant must also obtain a permit from the U.S. Army Corps of Engineers (USACE) to use the mooring, and NMFS prepared the draft EA in collaboration with the USACE. When finalized, NMFS will use the EA to determine whether or not the activity would be a major Federal action with the potential for significant environmental impacts. If NMFS determines that the proposed activity would have significant impacts, we would need to prepare an environmental impact statement. The EA will also inform our decision whether or not to issue the permit. Additionally, the EA will inform the USACE preparation of their own environmental evaluations in accordance with USACE procedures for the mooring permit.

Authority: 16 U.S.C. 1801 et seq.

Dated: January 20, 2016.
Emily H. Menashes,
Acting Director, Office of Sustainable Fisheries, National Marine Fisheries Service.

[FR Doc. 2016-01343 Filed 1-22-16; 8:45 am]

BILLING CODE 3510-22-P